DEPARTMENT OF ENERGY

Federal Energy Regulatory Commission

[Project No. 13579-002; Project No. 14491-000]

FFP Qualified Hydro 14, LLC, Western Minnesota Municipal Power Agency; Notice Announcing Filing Priority for Preliminary Permit Applications

On October 21, 2013, the Commission held a drawing to determine priority between competing preliminary permit applications with identical filing times. In the event that the Commission concludes that neither of the applicants' plans is better adapted than the other to develop, conserve, and utilize in the public interest the water resources of the region at issue, the priority established by this drawing will serve as the tiebreaker. Based on the drawing, the order of priority is as follows:

1. FFP Qualified Hydro 14, LLC—Project No. 13579-002

2. Western Minnesota Municipal Power Agency—Project No. 14491-000

Dated: October 23, 2013.
Nathaniel J. Davis, Sr.,
Deputy Secretary.

[FR Doc. 2013-25527 Filed 10-28-13; 8:45 am]

BILLING CODE 6717-01-P